DEPARTMENT OF HEALTH AND HUMAN SERVICES

National Institutes of Health

The National Heart, Lung, and Blood Institute (NHLBI) COPD National Action Plan; Request for Public Comments

SUMMARY: NHLBI, with input from federal and nonfederal partners, is developing the COPD National Action Plan to help guide stakeholders nationwide in their efforts to reduce the burden of Chronic Obstructive Pulmonary Disease (COPD). The purpose of this notice is to seek public input on the current draft of the COPD National Action Plan.

DATES: To ensure consideration, your responses must be received by Friday, October 28, 2016.

ADDRESSES: Responses to this Notice must be submitted electronically using either the web-based format at http://www.nhlbi.nih.gov/health/educational/copd/get-involved/town-hall.htm or email to COPDActionPlan@porternovelli.com.

FOR FURTHER INFORMATION CONTACT: Lenora E. Johnson, DrPH; Director, Office of Science Policy, Engagement, Education, and Communications; National Heart, Lung, and Blood Institute; 9000 Rockville Pike, Bldg. 31, MSC 2480, Bethesda, MD 20892-2480, Telephone: 301-496-4236, Fax: 301-402-2405.

SUPPLEMENTARY INFORMATION:

Background

The NHLBI—part of the National Institutes of Health (NIH)—plans, conducts, and supports research related to the causes, prevention, diagnosis, and treatment of heart, blood vessel, lung, and blood diseases; and sleep disorders. The NHLBI is the NIH institute with primary responsibility for portfolio of research related to lung diseases.

The NHLBI provides global leadership for research, training, and education programs to promote the prevention and treatment of heart, lung, and blood diseases and enhance the health of all individuals so that they can live longer and more fulfilling lives. The Institute also administers national health education campaigns on COPD, women and heart disease, healthy weight for children, and other topics. NHLBI press releases and other materials are available online at www.nhlbi.nih.gov.

The importance of COPD as a public health issue was highlighted by the Senate Appropriations Committee in fiscal year 2012 with its charge to the NHLBI “to work with community stakeholders and other federal agencies, including the Centers for Disease Control and Prevention (CDC), to develop a national action plan to respond to the growing burden of this disease.” A letter from Reps. John Lewis, Dave Joyce and Carol Shea-Porter in November 2014 to Dr. Thomas Frieden, Director of the CDC, and Dr. Francis Collins, Director of the NIH, requested “that the NIH and the CDC create a National Action Plan for COPD in fiscal year 2015.”

In response to these requests and in collaboration with CDC and other federal partners, the NHLBI organized several trans-governmental preparatory workshops to discuss the development of such a plan. These workshops informed the establishment of six initial core goals to be addressed by the COPD National Action Plan.

In early 2016, the NHLBI hosted a COPD Town Hall Meeting with both federal and nonfederal stakeholders, including patients and their families. During the two-day meeting, attendees were invited to join one of six working groups, each charged with developing objectives, strategies, and benchmarks for a specified goal. The recommendations made by the working groups directly informed the development of the full draft of the COPD National Action Plan that is now available for public input.

Following the public comment period, the NHLBI will incorporate the feedback, finalize the COPD National Action Plan, and post the document for the public via the NHLBI Web site.

Information Requested

This notice invites public comment on the draft COPD National Action Plan draft. We ask that the public review the draft and provide feedback on its content, strategies, and tactics, as well as the opportunities it suggests organizations consider to help reduce the burden of COPD.

Input is being sought on each of the areas identified below, and respondents can provide comment to select areas or all of them.

(1) Goal 1: Empower people with COPD, their families, and caregivers to recognize and reduce the burden of COPD.

(2) Goal 2: Improve the prevention, diagnosis, treatment, and management of COPD by promoting and sustaining the education and training of health care professionals.

(3) Goal 3: Collect, analyze, disseminate, and report COPD-related public health data that drives change and tracks progress.

(4) Goal 4: Increase and sustain research to better understand prevention, pathogenesis, diagnosis, treatment, and management of COPD.

(5) Goal 5: Translate national policy, education, and program recommendations into legislative, research, and public health care actions.

(6) Additional comments, information, or suggestions about organizations that should be part of the COPD National Action Plan implementation.

General Information

All of the fields in the response are optional and voluntary. Any personal identifiers will be removed when responses are compiled. Proprietary, classified, confidential, or sensitive information should not be included in your response. This notice is for planning purposes only and is not a solicitation for applications or an obligation on the part of the United States (U.S.) government to provide support for any ideas identified in response to it. Please note that the U.S. government will not pay for the preparation of any comment submitted or for its use of that comment.

Please provide your name and email address so that we can follow up with you should we have any questions regarding your submission. If you are a member of a particular advocacy or professional organization, please indicate the name and primary focus of the organization (i.e., research support, patient care, etc.) and whether you are responding on behalf of your organization. If you are not, please indicate your position within the organization.

Privacy Act Notification Statement: We are requesting your comments on the draft COPD National Action Plan. The information you provide may be disclosed to NHLBI staff and contractors working on our behalf. Submission of this information is voluntary. However, the information you provide will help us develop a more complete COPD National Action Plan. Additionally, contact details will allow us to follow up with you should there be any questions to your feedback.

Collection of this information is authorized under 42 U.S.C. 203, 24 1, 2891-1 and 44 U.S.C. 310 I and Section 30 l and 493 of the Public Health Service Act regarding the establishment of the National Institutes of Health, its general authority to conduct and fund research and to provide training assistance, and its general authority to maintain records in connection with these and its other functions.

Dated: September 21, 2016.
Gary H. Gibbons,
Director, National Heart, Lung, and Blood Institute, National Institutes of Health.

[FR Doc. 2016-23392 Filed 9-27-16; 8:45 am]

BILLING CODE 4140-01-P